ENVIRONMENTAL PROTECTION AGENCY

[ER-FRL-9055-5]

Environmental Impact Statements; Notice of Availability

Responsible Agency: Office of Federal Activities, General Information 202-564-5632 or https://www.epa.gov/nepa.

Weekly receipt of Environmental Impact Statements (EIS)

Filed February 22, 2021 10 a.m. EST Through March 1, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210023, Draft Supplement, USACE, SC, Haile Gold Mine, Comment Period Ends: 04/23/2021, Contact: Shawn Boone 843-329-8158.

EIS No. 20210024, Draft, FHWA, MD, Chesapeake Bay Crossing Study Tier 1 NEPA, Comment Period Ends: 05/10/2021, Contact: Jeanette Mar 410-779-7152.

EIS No. 20210025, Draft, USACE, LA, Proposed Mid-Barataria Sediment Diversion Project in Plaquemines Parish, Louisiana, Comment Period Ends: 05/04/2021, Contact: Brad Laborde 504-862-2225.

Amended Notice

EIS No. 20210002, Draft, BOEM, AK, WITHDRAWN—Cook Inlet Planning Area Oil and Gas Lease Sale 258, Contact: Amee Howard 907-334-5200. Revision to FR Notice Published 01/15/2021; Officially Withdrawn per request of the submitting agency.

EIS No. 20210005, Final, USFS, AZ, WITHDRAWN—Resolution Copper Project and Land Exchange, Contact: Mary Rasmussen 602-225-5200. Revision to FR Notice Published 01/15/2021; Officially Withdrawn per request of the submitting agency.

Dated: March 1, 2021.
Cindy S. Barger,
Director, NEPA Compliance Division, Office of Federal Activities.

[FR Doc. 2021-04543 Filed 3-4-21; 8:45 am]

BILLING CODE 6560-50-P